DEPARTMENT OF TRANSPORTATION

Office of the Secretary

Aviation Proceedings, Agreements Filed the Week Ending January 31, 2009

The following Agreements were filed with the Department of Transportation under Sections 412 and 414 of the Federal Aviation Act, as amended (49 U.S.C. 1382 and 1384) and procedures governing proceedings to enforce these provisions. Answers may be filed within 21 days after the filing of the application.

Docket Number: DOT-OST-2009-0027.

Date Filed: January 29, 2009.

Parties: Members of the International Air Transport Association.

Subject: TC3 Japan, Korea—South Asian Subcontinent, Resolutions & Specified Fares Tables, (Memo 1262). Minutes: TC3 Bangkok, 10-15 November 2008, (Memo 1269). Intended effective date: 1 April 2009.

Docket Number: DOT-OST-2009-0028.

Date Filed: January 29, 2009.

Parties: Members of the International Air Transport Association.

Subject: TC3 Japan, Korea-South East Asia, between Korea (Rep. of) and Guam, Northern Mariana Islands, Resolutions & Specified Fares Tables (Memo 1256). Minutes: TC3 Bangkok, 10-15 November 2008. (Memo 1269). Intended effective date: 1 April 2009.

Docket Number: DOT-OST-2009-0029.

Date Filed: January 29, 2009.

Parties: Members of the International Air Transport Association.

Subject: TC3 Japan, Korea—South East Asia except between Korea (Rep. of) and Guam, Northern Mariana Islands (Memo 1255). Technical Correction: TC3 Japan, Korea—South East Asia except between Korea (Rep. of) and Guam, Northern Mariana Islands (Memo 1265). Minutes: TC3 Bangkok, 10-15 November 2008, (Memo 1269). Intended effective date: 1 April 2009.

Docket Number: DOT-OST-2009-0030.

Date Filed: January 29, 2009.

Parties: Members of the International Air Transport Association.

Subject: TC3 Areawide Resolutions. (Memo 1254). Technical Correction: TC3 Areawide Resolutions (Memo 1264). Minutes: TC3 Bangkok, 10-15 November 2008 (Memo 1269). Intended effective date: 1 April 2009.

Renee V. Wright,
Program Manager, Docket Operations, Federal Register Liaison.

[FR Doc. E9-2891 Filed 2-10-09; 8:45 am]

BILLING CODE 4910-9X-P